DEPARTMENT OF STATE

[Public Notice Number: 11453]

Overseas Schools Advisory Council Charter Renewal

ACTION: Notice of renewal of an advisory committee charter.

SUMMARY: The Secretary of State announces the renewal of the charter of the Overseas Schools Advisory Council in accordance with the Federal Advisory Committee Act. The main objectives of the Council are:

(a) To advise the Department of State regarding matters of policy and funding for the overseas schools;

(b) To help the overseas schools become showcases for excellence in education;

(c) To help make service abroad more attractive to American citizens who have school-age children, both in the business community and in Government;

(d) To identify methods to mitigate risks to American private sector interests worldwide.

FOR FURTHER INFORMATION CONTACT: Thomas Shearer, Director of the Office of Overseas Schools and Executive Secretary for the Committee, at (202) 261-8200 or OverseasSchools@state.gov.

Zachary A. Parker,
Director, Office of Directives Management, U.S. Department of State.

[FR Doc. 2021-13414 Filed 6-23-21; 8:45 am]

BILLING CODE 4710-24-P